DEPARTMENT OF TRANSPORTATION

Pipeline and Hazardous Materials Safety Administration

Hazardous Materials: Notice of Applications for Special Permits

AGENCY: Pipeline and Hazardous Materials Safety Administration (PHMSA), DOT.

ACTION: List of Applications delayed more than 120 days.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 5, 2017.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-30, 1200 New Jersey Avenue SE., Washington, DC, or at http://regulations.gov.

This notice of receipt of applications for special permit is published in accordance with Part 107 of the Federal hazardous materials transportation law (49 U.S.C. 5117(b); 49 CFR 1.53(b)).

Issued in Washington, DC, on February 9, 2017.
Donald Burger,
Chief, Office of the Special Permits and Approvals.

Application No. | Docket No. | Applicant | Regulation(s) affected | Nature of the special permits thereof
Special Permits Data
7891-G |  | Sigma-Aldrich Corporation | 173.13(a), 173.13(b), 173.13(c)(1)(ii) | To authorize the transportation in commerce of specially designed combination packagings containing certain hazardous materials without hazard labels or placards, with quantity limits not exceeding one liter for liquids or 2.85 kilograms for solids.
8215-M |  | Olin Corporation | 173.212, 172.320, 173.62(c) | To modify the special permit to authorize the transportation of explosives along an alternative route when necessary, to remove the EX requirement for certain explosives because the permit authorized packaging not approved in the approval, to replace references to ORM-D with ORM-DE or Division 1.45 and to authorize a stainless steel lid as an alternative to the current plastic one.
8451-G |  | Pipeline and Hazardous Materials Safety Administration | 173.54(a), 173.54(j), 173.56(b), 173.57, 173.58, 173.60, 172.320 | To authorize the transportation in commerce of not more than 25 grams of solid explosive or pyrotechnic material, including waste containing explosives that has energy density not significantly greater than that of pentaerythritoltetranitrate, classed as Division 1.4E, when packed in a special shipping container.
8451-R |  | Safety Consulting Engineers, Inc |  | To authorize the transportation in commerce of not more than 25 grams of solid explosive or pyrotechnic material, including waste containing explosives that has energy density not significantly greater than that of pentaerythritoltetranitrate, classed as Division 1.4E, when packed in a special shipping container.
10704-M |  | Boost Oxygen, LLC | 173.302a(a)(1) | To modify the special permit to authorize additional packaging with a higher fill pressure than currently authorized in the special permit.
11151-P |  | Hazchem Environmental Corp | 177.848(d) | To authorize the transportation in commerce of combination packages containing hazardous wastes that are poisonous by inhalation, Division 6.1, PG I, Hazard Zone A, in the same transport vehicle with packages containing hazardous materials assigned to Class 3, Class 8 or Divisions 4.1, 4.2, 4.3, 5.1, 5.2.
11180-M |  | Affival Inc | 173.24(c) | To modify the special permit to authorize metal tubes with a decreased diameter and an increased length to be authorized under the special permit.
11646-P |  | Chem Tech Services, Inc | 177.834(h), 172.203(a), 172.301(c) | To authorize the discharge of certain Class 3, Division 6.1 and Class 8 and Class 9 liquids from a DOT Specification drum without removing the drum from the vehicle on which it is transported.
11646-P |  | Brand X Oilfield Products, Inc | 172.203(a), 172.301(c), 177.834(h) | To authorize the discharge of certain Class 3, Division 6.1 and Class 8 and Class 9 liquids from a DOT Specification drum without removing the drum from the vehicle on which it is transported.
11646-P |  | Pine Island Chemical Solutions North LLC | 172.203(a), 172.301(c), 177.834(h) | To authorize the discharge of certain Class 3, Division 6.1 and Class 8 and Class 9 liquids from a DOT Specification drum without removing the drum from the vehicle on which it is transported.
11818-G |  | Harris Corporation | 173.301(f), 173.302(a), 173.304(a), 172.101(j) | To authorize the transportation in commerce of certain non-DOT specification containers containing certain Division 2.1, 2.2, and 2.3 liquefied and compressed gases and other certain hazardous materials.
12074-M |  | Van Hool NV | 178.276(b) | To modify the special permit to authorize an increase in the maximum USWG.
12335-P |  | Western Wireline, Inc | 173.62(c) | To authorize an alternative packaging method for use in transporting Cord, detonating, Division 1.1D and 1.4D.
12412-P |  | Source Technologies, LLC | 177.834(h), 172.203(a), 172.302(c) | To authorize the discharge of liquid hazardous materials from certain UN Intermediate Bulk Containers (IBCs) and DOT Specification 57 portable tanks without removing them from the vehicle on which they are transported.
12412-P |  | Omni Industrial Solutions, LLC | 177.834(h), 172.23(a), 172.302(c) | To authorize the discharge of liquid hazardous materials from certain UN Intermediate Bulk Containers (IBCs) and DOT Specification 57 portable tanks without removing them from the vehicle on which they are transported.
12412-P |  | Pine Island Chemical Solutions North LLC | 177.834(h), 172.203(a),172.302(c) | To authorize the discharge of liquid hazardous materials from certain UN Intermediate Bulk Containers (IBCs) and DOT Specification 57 portable tanks without removing them from the vehicle on which they are transported.
12412-R |  | Green Touch Systems, LLC | 177.834(h), 172.203(a), 172.302(c) | To consolidate the exemptions that currently authorize the discharge of hazardous materials in UN Intermediate Bulk Containers (IBC) without removing the IBC from the motor vehicle on which it is transported.
12412-R |  | P.D.Q. Manufacturing, Inc | 177.834(h), 172.203(a), 172.302(c) | To authorize the discharge of liquid hazardous materials from certain UN Intermediate Bulk Containers (IBCs) and DOT Specification 57 portable tanks without removing them from the vehicle on which they are transported.
12825-R |  | Sea Safety Services, Inc | 173.219(b)(1), 173.301(1) | To authorize the transportation of foreign life rafts equipped with non-DOT specification cylinders.
13135-M |  | Space Systems/Loral, LLC | 173.302a. |
13220-M |  | Entegris, Inc | 137.192,173.302a, 173.304a | To modify the special permit to authorize an increase in the maximum vacuum brake temperature.
13307-M |  | United Phosphorus Inc | 172.504 | To modify the special permit to authorize a new hazmat and new packaging.
13996-M |  | TK Holdings, Inc | 172.301(c), 173.166(e)(4) | To update the permit to bring it in line with regulatory changes made in HM-254 and HM-215M.
14039-M |  | Van Hool NV | 178.274(b), 178.276(b) | To modify the special permit to authorize an increase in the maximum USWG.
14206-M |  | Digital Wave Corporation | 18.205, 172.203(a), 172.301(c) | To modify the special permit to authorize Ultrasonic Examination of certain DOT UN refillable pressure receptacles and cylinders.
14335-M |  | Rinchem Company, Inc | 177.848(d), 177.301(c), 172.302(c) | To modify the special permit to authorize a change in ventilation requirements to allow for a refrigeration/blower ventilation system.
14453-M |  | Fiba Technologies, Inc | 180.209(a), 180.209(b), 108.209(b)(1)(iv) | To modify the special permit to authorize additional Division 2.1 and 2.2 hazmat and bring them in line with other permits already authorizing the materials that have been issued to FIBA.
14566-M |  | Nantong Cimc Tank Equipment Co., Ltd | 178.274(b), 178.276(a)(2), 178.276(b)(1) | To modify the special permit to authorize portable tanks with a design margin of 3.5:1 instead of 4.0:1.
14691-R |  | Federal Express Corporation | 172.202, 172.203(c), 172.203(k), 172.203(m), 172.301, 172.400, 172.301(c) | To authorize the return shipment by motor vehicle of hazardous materials that have been accepted, transported, and subsequently determined to be non-compliant with the Hazardous Materials Regulation's shipping paper, marking or labeling requirements.
14920-M |  | Nordco Rail Services LLC | 173.302a(b), 172.203(a), 172.301(c), 180.205 | To modify the special permit to authorize requalification of DOT specification 3A and 3AA cylinders with 24 inch outside diameters and to indicate that Ultra-sonic Examination (UE) is not required on the sidewall-to-base transitions (SBT) region of a cylinder if the cylinder design does not permit.
14932-G |  | Composite Technology Corp | 173.302(a)(a), 173.304(a)(a), 180.205 | To authorize the manufacture, marking, sale, and use of non-DOT specification fully wrapped carbon-fiber reinforced aluminum lined cylinders for the transportation in commerce of certain compressed gases.
15070-G |  | Carleton Technologies, Inc | 173.302(a)(a)(1), 173.304(a)(a)(1), 180.205(a) | To authorize the manufacture, marking, sale and use of carbon and glass fiber rein-forced, brass lined composite pressure vessels.
15071-R |  | Orbital Atk Inc | 173.302(a), 173.62(c) | To authorize the transportation in commerce of a Cartridge, power device installed as part of a launch vehicle subassembly in alternative packaging by motor vehicle and cargo vessel.
15389-M |  | Ametek Ameron, LLC | 173.301(a)(1), 173.302(a)(1), 173.304(a)(1), 173.302(f)(1), 173.304(f)(1) | To modify the special permit to authorize the discharge and refill of a cylinder which is found to have a small leak of the sealing disc during testing.
15977-P |  | Midstate Environmental Services LP | 173.28(b)(7)(iv)(C) | To authorize the transportation in commerce of certain solvents in previously used steel drums without leakproof testing.
16452-M |  | The Procter & Gamble Company | 171.180 | To modify the permit to clarify the requirement for strong outer packaging to meet the requirements normally applied to packages of “limited quantities” moving by air.
16592-P |  | Maximum RX Credit, Inc | 172.203(a), 172.301(c), 173 Subparts A,B,D,E | To authorize the transportation in commerce of certain Drug Enforcement Administration (DEA) controlled substances transported for the purpose of disposal.
20084-G |  | Cimarron Composites, LLC | 173.302a | To authorize the manufacture, mark, sale and use of non-DOT specification cylinders for the transportation in commerce of certain Divisions 2.1 and 2.2 compressed gases.
20220-N |  | Agility Fuel Systems, Inc | 173.220(a) | To authorize the transportation in commerce of compressed natural gas fuel systems that are not part of an internal combustion engine.
20222-N |  | Trinity Containers, LLC | 178.337-3 (g)(3), 172.203(a), 172.302(c) | To authorize the transportation in commerce of certain DOT Specification MC-331 cargo tank motor vehicles with a water capacity greater than 3,000 gallons, manufactured to the DOT MC-331 specification, constructed of non-quenched and tempered (“NQT”) steel except that the cargo tanks have baffle supports welded directly to an angle on the inside of the cargo tank without the use of pads.
20226-N |  | Awesome Flight LLC | 173.27(b)(3) | To authorize the transportation of lithium ion batteries in excess of the authorized quantity limitations via passenger and cargo aircraft.
20228-N |  | Structural Composites Industries LLC | 173.302(f)(3), 173.302(f)(4), 173.302(f)(5), 173.302a(a)(1), 173.304a(a)(1), 173.501(e)(3) | To authorize the manufacture, marking, sale, and use of non-DOT specification fully wrapped carbon fiber reinforced steel lined cylinders for the transportation in commerce.
20235-N |  | Union Pacific Railroad Company Inc | 174.83(c), 174.83(d), 174.83(e) | To authorize the transportation in commerce of flat-cars carrying bulk packagings containing certain Division 4.3 materials without restricting its ability to couple with another rail-car while moving under its own momentum.
20251-N |  | Salco Products Inc | 174.203(a), 178.345-1, 180.413 | To authorize the manufacture, mark, sale and use of manway assemblies constructed from stabilized poly-ethylene for installation on certain DOT specification cargo tank motor vehicles in transporting certain hazardous materials.
20252-N |  | Luxfer Inc | 173.302(a), 180.205 | To authorize the manufacture, marking, sale and use of a non-DOT specification fully wrapped carbon fiber composite cylinder with a non-load sharing polymer liner for the transport of certain hazardous materials.
20260-N |  | Rogers Helicopters, Inc | 173.27(b)(2), 72.101(j), 172.200(a), 172.200, 172.204(c)(3), 172.400(b), 172.400a(a), 172.300(a), 172.300, 172.301(c), 175.75(b), 175.75(c), 178.1010(a)(1) | To authorize the transportation in commerce of certain hazardous materials by 14 CFR part 133 Rotorcraft External Load Operations transporting hazardous materials attached to or suspended from an aircraft, in remote areas of the U.S. only, without being subject to hazard communication requirements, quantity limitations, and certain loading and stowage requirements.
20262-N |  | Shijiazhuang Enric Gas Equipment Co., LTD | 173.302(a), 173.304(a) | To authorize the transportation of certain hazardous materials in non-DOT specification fiber reinforced composite cylinders.
20265-N |  | Hypercomp Engineering, Inc | 178.71(l)(ii) | To authorize the manufacture, mark, sale, and use of non-DOT specification composite overwrapped pressure vessels for the transportation of certain hazardous materials.
20266-N |  | Zhejiang Tiantai Zhantu Automobile Supplies Co., LTD | 173.304(a), 173.304(d) | To authorize the manufacture, mark, sale and use of a non-refillable, non-DOT specification inside metal container conforming to all regulations applicable to a DOT specification 2Q, except as specified herein, for the transportation in commerce of the materials authorized by this special permit.
20285-N |  | Kinross EMS | 173.196 | To authorize the transportation of Category A infectious substances in non-DOT specification packaging following the transportation of a patient diagnosed with an infectious disease.
20288-N |  | U.S. Army CE-LCMC | 175.10 (a)(18)(ii) | To authorize the transportation of lithium ion batteries in carry-on luggage that exceed the allowable weight and have a Watt-hour rating greater than 100 Wh.
20289-N |  | FDC Composites, Inc | 173.242 | To authorize the manufacture, mark, sale, and use of non-DOT specification glass fiber reinforced plastic (GFRP) cargo tank conforming with all applicable requirements for DOT specification 412/407 cargo tanks, except as specified herein.
20291-N |  | Board of Regents of The University of Nebraska | 171.2(k) | To authorize the transportation in commerce of packages of non-hazardous material identified as Category A infectious substances for purposes of shipping and packaging drills.
20293-N |  | LG Chem | 173.185(a) | To authorize the transportation in commerce of proto-type lithium ion batteries by cargo-only aircraft.
20294-N |  | The Dow Chemical Company | 172.203(a), 172.302(c), 180.605(h)(3) | To authorize a 5 year periodic pressure test on UN portable tanks used in the transport of certain hazardous materials to be performed with mineral oil rather than with water.
20301-N |  | Tesla Motors, Inc | 173.185(a), 173.185(b)(3)(i), 173.185(b)(3)(ii), 172.101(j) | To authorize the transportation in commerce of prototype and low production lithium ion batteries via cargo aircraft.
20302-N |  | Tesla Motors, Inc | 173.185(a) | To authorize the transportation in commerce of vehicles containing prototype lithium ion batteries via cargo-only aircraft and cargo vessel.
20306-N |  | Avantor Performance Materials International, Inc | 173.158(e) | To authorize the transportation in commerce of nitric acid in fiberboard outer packagings without the use of intermediate packaging or absorbent material.
20307-N |  | Tesla Motors, Inc | 173.185(a) | To authorize the transportation in commerce of low production and prototype lithium ion batteries in excess of 35 kg by cargo-only aircraft.
20308-N |  | The Dow Chemical Company | 172.203(a), 172.302(c), 180.605(h)(3) | To authorize transportation in commerce of UN portable tanks which have been periodically pressure tested using materials other than water.
20311-N |  | Essex Industries, Inc | 178.57(d)(3) | To authorize the manufacture, mark, sale, and use of non-DOT specification cylinders meeting the requirements of 4L cylinders except that the heat transfer from the atmosphere to the contents of the cylinder may exceed 0.0005 as specified herein.
20313-N |  | Tier Holdings, LLC | 173.244 | To authorize the one-way transportation in commerce of sodium in two non-DOT specification portable tanks.
20315-N |  | Transport Logistics International, Inc | 173.420(a)(2)(i) | To authorize the one-time movement of uranium hexa-fluoride in non-authorized packaging.
20321-N |  | Colmac Coil Manufacturing, Inc | 173.202 | To authorize the transportation in commerce of methanol in alternative packaging by motor vehicle and cargo vessel.
20322-N |  | C.H.&I. Technologies, Inc | 178.33-1(a), 178.33a-1(a) | To authorize the transportation in commerce of refill-able 2P and 2Q receptacles.
20326-N |  | Aviation Inflatables, Inc | 173.302(a), 173.3(a), 175.3 | To authorize the transportation in commerce of non-DOT specification cylinders charged with a mixture of carbon dioxide and nitrogen gases.
20331-N |  | C.L. Smith Company, Inc | 172.600, 172.704, 172.200, 172.400, 172.300 | To authorize the manufacture, mark, sale and use of UN specification packaging for the transportation of damaged/defective lithiumion batteries.
20333-N |  | Antonov, DP | 173.27(b)(2), 175.30(a)(1), 172.101(j), 172.203(a), 172.301(c), | To authorize the transportation in commerce of certain hazardous materials forbidden aboard cargo aircraft only.
20337-N |  | Textron Systems Corporation | 173.27(b)(2), 173.27(b)(3), 175.30(a)(1), 172.101(j), 172.204(c)(3) | To authorize the transportation in commerce of Class 1 materials forbidden by cargo-only aircraft via air transportation.
20339-N |  | Atlas Air, Inc | 173.27(b)(2), 173.27(b)(3), 175.30(a)(1), 172.101(j), 172.204(c)(3) | To authorize the transportation in commerce of certain hazardous materials forbidden aboard cargo aircraft only.
20340-N |  | Vinci Technologies | 173.301(f), 173.302(a), 173.304(a), 173.201, 178.37(f) | To authorize the transportation in commerce of certain hazardous materials in non-DOT specification cylinders.
20343-N |  | DR. Ing H.C.F. Porsche AG | 172.101(j) | To authorize the transportation in commerce of lithiumion batteries that exceed 35 kg by cargo-only aircraft.
20348-N |  | Wrightspeed, Inc | 173.185(a) | To authorize the transportation in commerce of prototype lithiumion batteries by cargo-only aircraft.
20350-N |  | Strato, Inc | 179.7(b)(8) | To authorize the manufacture, mark, sell, and use of tank car service equipment manufactured under a previously valid Class F registration.
20351-N |  | Roeder Cartage Company, Incorporated | 180.407(c), 180.407(e), 180.407(f) | To authorize the transportation in commerce of Acetonitrile and Acetonitrile, crude in dedicated DOT Specification 407 and 412 cargo tanks which are not required to have periodic internal visual inspections.
20352-N |  | Schlumberger Technology Corp | 173.301(f), 173.302(a), 173.304(a), 173.304(d), 173.201(c), 173.202(c), 173.203(c) | To authorize the manufacture, mark, sale, and use of von-DOT specification cylinders for the transportation of Division 2,1 materials.
20353-N |  | Accuray Incorporated | 173.302(a), 175.3, 172.400, 172.301(c) | To authorize the transportation in commerce of Xenon gas in a non-DOT specification container (detector), either shipped alone or as an integral part of a gantry assembly.
20355-N |  | Enersys Advanced Systems, Inc | 173.185(a)(1) | To authorize the transportation in commerce of lithium batteries that are of a type not proven to meet the requirements of the UN Manual of Tests and Criteria.
20356-N |  | Tesla Motors, Inc | 173.185(b)(3), 172.101(j) | To authorize the transportation in commerce of lithiumion batteries exceeding 35 kg by cargo-only aircraft.
20357-N |  | Jingmen Hongtu Special Aircraft Manufacturing Co., LTD | 178.274(b), 178.274(b), 178.276(a)(2), 178.276(b)(1) | To authorize the manufacture, marking, sale and use of certain DOT Specification 50 steel portable tanks conforming with Section VIII, Division 2 of the ASME Code instead of Section VIII, Division 1, for the transportation in commerce of Division 2.1 and 2.2 materials.
20361-N |  | Keith Huber Corporation | 178.345-3(f)(3) | To authorize the HUBER manufacture, mark, CORPORATION sale, and use of non-DOT specification cargo tanks to transport gasoline.
20362-N |  | FSC Metal Corporation | 173.304(a) | To authorize the use of certain non-DOT specification cylinders for the transportation in commerce of the materials authorized by the special permit.
20366-N |  | ATS-MER, LLC | 173.185(a) | To authorize the transportation in commerce of prototype and low production lithium batteries via cargo-only aircraft.

[FR Doc. 2017-04013 Filed 3-3-17; 8:45 am]

BILLING CODE 4909-60-M